DEPARTMENT OF COMMERCE

National Oceanic and Atmospheric Administration

RIN 0648-XE12

New England Fishery Management Council; Public Meeting

AGENCY: National Marine Fisheries Service (NMFS), National Oceanic and Atmospheric Administration (NOAA), Commerce.

ACTION: Notice of a public meeting.

SUMMARY: The New England Fishery Management Council's (Council) Multispecies (Groundfish) Committee will meet to consider actions affecting New England fisheries in the exclusive economic zone (EEZ).

DATES: The two-day meeting will be held on Wednesday, December 12, 2007, at 9 a.m. and Thursday, December 13, 2007, at 8:30 a.m.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Multispecies (Groundfish) Committee will meet for two days to consider additional issues for Amendment 16 to the Northeast Multispecies Fishery Management Plan. The items of discussion in the committee's agenda are as follows:

Wednesday, December 12, 2007

The Committee will continue to develop a process for allocation of groundfish species and a process to set the Annual Catch Limits (ACL's) and Accountability Measures (AM's)for the recreational users. It also will continue to develop days-at-sea (DAS) measures to meet the mortality requirements set under Amendment 13, establishing a process to set ACL's and AM's for the common pool commercial users, and developing DAS transfer and leasing taxes. The Committee may also consider other DAS measures necessary to complete its work for Amendment 16.

Thursday, December 13, 2007

The Committee will finish any uncompleted issues from day one and work on the following items:

Measures for sector management to include baseline time-frame; allocation mechanisms, replacing the 20% species cap; monitoring mechanisms for sectors.

The Committee may also consider other sector issues and any measures necessary to complete its work for Amendment 16.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: November 21, 2007.
Tracey L. Thompson,
Acting Director, Office of Sustainable Fisheries, National Marine Fisheries Service.

[FR Doc. E7-23019 Filed 11-26-07; 8:45 am]

BILLING CODE 3510-22-S